GENERAL SERVICES ADMINISTRATION

[Notice-MG-2014-04; Docket No. 2014-0002; Sequence No. 25]

GSA's Analysis of the Alignment of LEED v4 With Federal Green Building Requirements

AGENCY: Office of Federal High-Performance Green Buildings; Office of Government-wide Policy (OGP), General Services Administration (GSA).

ACTION: Request for information.

SUMMARY: GSA is seeking public input on its analysis of the latest version of the U.S. Green Building Council's (USGBC) Leadership in Energy and Environmental Design (LEED v4) green building certification system and its alignment with Federal green building requirements. GSA is also seeking public input on several questions related to the Government's use of LEED v4 and future GSA reviews of green building certification systems.

GSA used the findings from its supplemental review to consult with other Federal agencies in the EISA 436(h) Interagency Ad-hoc Discussion Group (Interagency Discussion Group) on the Federal Government's use of LEED v4. GSA will be using the deliberations from the Interagency Discussion Group as well as public input from this Federal Register notice and a to-be-scheduled public listening session to augment GSA's October 25, 2013 recommendation to the Secretary of Energy. The information being asked for in this notice is not for the purpose of a proposed GSA rulemaking or a GSA regulation.

DATES: Interested parties should submit written comments by one of the methods shown below on or before March 23, 2015 to be considered in the formation of GSA's updated recommendation to the Secretary of Energy.

ADDRESSES: Submit comments in response to Notice-MG-2014-04 by any of the following methods:

• Regulations.gov: http://www.regulations.gov. Submit comments via the Federal eRulemaking portal by searching for “Notice-MG-2014-04”. Select the link “Comment Now” that corresponds with “Notice-MG-2014-04”. Follow the instructions provided on the screen. Please include your name, company name (if any), and “Notice-MG-2014-04” on your attached document.

• Fax: 202-501-4067.

• Email: bryan.steverson@gsa.gov.

• Mail: General Services Administration, Regulatory Secretariat (MVCB), ATTN: Ms. Flowers, 1800 F Street NW., Washington, DC 20405.

Instructions: Please submit comments only and cite Notice-MG-2014-04, in all correspondence related to this case. All comments received will be posted without change to http://www.regulations.gov, including any personal and/or business confidential information provided. Visit http://www.gsa.gov/gbcertificationreview for more information.

FOR FURTHER INFORMATION CONTACT: Mr. Bryan Steverson, Program Advisor, GSA Sustainability and Green Buildings, at telephone 202-501-6115 or email bryan.steverson@gsa.gov.

SUPPLEMENTARY INFORMATION: Request For Public Input: GSA is seeking public input on questions that arose during the Interagency Discussion Group meetings:

1. GSA is seeking public input on what LEED v4 credits agencies should consider focusing on. In its 2013 recommendations, GSA recommended that agencies should focus on achieving those credits or points that align with federal green building requirements. In discussions with the Interagency Discussion Group, agencies believed that GSA should avoid making recommendations on specific credits agencies would be required to pursue if using LEED v4, and that any credit prioritization or requirement should be left up to the discretion of each department or agency. The Ad-hoc Discussion Group also believed GSA should develop guidance that maps LEED v4 credits to federal green building requirements in order to inform agencies as to those credits that agencies could achieve to determine conformance with federal green building requirements.

2. While several agencies, GSA included, have had subject matter experts participate on technical committees and other advisory roles for green building certification systems in either their development or implementation, how else can the Federal Government better contribute and collaborate with green building certification system owners to ensure that the Federal Government's voice is heard in both the system development process and in the overall effort to push the built-environment to be more sustainable?

In order to improve future green building certification system reviews, GSA would like to seek public input on several questions on how to strengthen the analysis and improve GSA's review process:

3. While GSA believes its analysis provides a good source of information for other agencies and the public at large, GSA would like input on where GSA's future certification system reviews could be stronger. In its supplemental analysis of LEED v4, GSA used the same criteria and methodology as it used in its 2012 green building certification system study. GSA had this analysis peer reviewed by other federal agencies, private sector high performance green building experts and notable members of academia as well as the U.S. Green Building Council.

4. GSA is seeking public input on other ways to visually illustrate certification system alignment with Federal green building requirements. During the peer review process for GSA's supplemental analysis of LEED v4, several peer reviewers suggested GSA should revisit how it visually illustrates certification system alignment with Federal green building requirements in Table 1 (page vii) and Table 3-1 (page 3-6) of the report (available at http://www.gsa.gov/gbcertificationreview). The tables show several differently shaded circles that are defined as follows:

Full Circle—Federal requirement met automatically because certification system includes prerequisite that fully aligns with the Federal requirement;

Three-quarters circle—Certification system has a credit that meets the Federal requirement;

Half-circle—Certification system has a credit that is related to, but not specifically aligned with, the Federal requirement;

Empty circle—Federal requirement is not an identified component within the certification system.

5. GSA is seeking comment on how GSA and the Federal Government can better carry out its responsibilities in Section 436(h) of EISA, and do so in “real-time”. During GSA's 2012 review of green building certification systems, both Green Globes and LEED were in the process of being revised. GSA's recommendation number five (from GSA's October 25, 2013 letter to the Secretary of Energy) suggested that a process be established to keep current with revisions to green building certification systems and to review certification systems once they have been released to the public. While GSA still believes this process is critical in staying current with the evolving green building certification system marketplace, the reviews GSA conducts have proven to be time-consuming, and, in some cases, have overlapped with a release of a new version to a certification system not part of that current review.

Background

GSA is seeking public input on its analysis of LEED v4 and its alignment with Federal green building requirements. Section 436(h) of the Energy Independence and Security Act of 2007 (EISA, Pub. L. 110-140) requires the Director of GSA's Office of Federal High-Performance Green Buildings to evaluate green building certification systems every five years and to identify a system and certification level that “will be most likely to encourage a comprehensive and environmentally sound approach to the certification of green federal buildings”. EISA requires the GSA Administrator to provide a recommendation to the Secretary of Energy, who then consults with the Secretary of Defense and the GSA Administrator, to identify the system(s) appropriate for use in the Federal sector.

In October 2013, GSA recommended that agencies, if they choose to use a green building certification system, use one of two certification systems as best suited to agency missions and portfolio needs: The Green Building Initiative's Green Globes and USGBC's LEED v2009. GSA submitted additional recommendations on how the Government should stay involved with green building certification systems as they evolve over time, including the establishment of a process to keep current with revisions to green building certification systems.

In November 2013, the USGBC released an updated version of LEED, LEED v4, for use in the marketplace. In keeping with its recommendation, GSA completed a supplemental review of LEED v4 in August 2014 and focused the analysis on LEED v4 BD+C: New Construction, LEED v4 O+M: Existing Buildings, and LEED v4 ID+C: Commercial Interiors. GSA considered this review a supplement to its previous 2012 study (found at http://www.gsa.gov/gbcertificationreview) and used the same criteria and methodology in its evaluation of LEED v4. While no recommendations are offered in the supplemental study, the analysis shows that LEED v4 aligns well with Federal green building requirements. For a copy of the analysis and associated appendices, please visit http://www.gsa.gov/gbcertificationreview.

In recognition that there was a high level of interest in the green building certification system review, both within and outside the Federal sector, GSA asked the Department of Energy (DOE) and the Department of Defense (DoD) to co-chair an Interagency Discussion Group to discuss the Federal Government's use of LEED v4. The Interagency Discussion Group included representatives from major Federal real estate portfolio holders, including GSA, the DoD, the DOE, the Department of Agriculture (USDA), the Environmental Protection Agency (EPA), the Department of State (DOS), the Department of Health and Human Services (DHHS), the Department of Interior (DOI), the Department of Veterans Affairs (VA), and the Department of Justice (DOJ). The Interagency Discussion Group met two times in September and October 2014 to discuss the Federal Government's potential use of LEED v4, credits within LEED v4 that agencies should focus on, and the need for guidance that maps LEED v4 credits to Federal green building requirements.

It should be noted that on October 14, 2014, the U.S. DOE published its final rule that formally identifies criteria that green building certification systems must meet in order to be used by the Federal Government. This GSA request for information is not for the purposes of that final rulemaking, but to inform GSA on its related responsibilities to study green building certification systems and recommend ones to the DOE that may fit within the framework of the final rule. DOE's final rule can be found at http://www.regulations.gov (docket number EE-RM/STD-02-112 or RIN number 1904-AC13).

Dated: January 13, 2015.
Kevin Kampschroer,
Federal Director, Office of Federal High-Performance Green Buildings, Office of Government-wide Policy, U.S. General Services Administration.

[FR Doc. 2015-00861 Filed 1-20-15; 8:45 am]

BILLING CODE 6820-14-P